DEPARTMENT OF THE INTERIOR

Fish and Wildlife Service

[FWS-R4-ES-2019-N129; FXES11130400000EA-123-FF04EF1000]

Receipt of Incidental Take Permit Application and Proposed Habitat Conservation Plan for the Alabama Beach Mouse, Baldwin County, AL; Categorical Exclusion

AGENCY: Fish and Wildlife Service, Interior.

ACTION: Notice of availability; request for comment and information.

SUMMARY: We, the U.S. Fish and Wildlife Service (Service), announce receipt of an application from Creek Holdings, LLC (applicant), for an incidental take permit (ITP) under the Endangered Species Act. The applicant requests the ITP to take the federally listed Alabama beach mouse incidental to construction in Baldwin County, Alabama. We request public comment on the application, which includes the applicant's proposed habitat conservation plan (HCP), and the Service's preliminary determination that this HCP qualifies as “low effect,” categorically excluded, under the National Environmental Policy Act. To make this determination, we used our environmental action statement and low-effect screening form, both of which are also available for public review.

DATES: We must receive your written comments on or before October 25, 2019.

ADDRESSES: Obtaining Documents: Documents are available for public inspection by appointment during regular business hours at either of the following locations:

• Atlanta Regional Office, Ecological Services, U.S. Fish and Wildlife Service, 1875 Century Boulevard, Atlanta, GA 30345.

• Alabama Ecological Services Office, U.S. Fish and Wildlife Service, 1208 Main Street, Daphne, Alabama.

Submitting Comments: If you wish to submit comments on any of the documents, you may do so by one of the following methods. Please reference TE33502D-0 in all comments. For additional guidance on submitting comments, please see Public Comments under SUPPLEMENTARY INFORMATION.

• U.S. mail: You may mail comments to the Service's Atlanta Regional Office.

• Hand-delivery: You may hand-deliver comments to the Atlanta or Alabama Offices.

• Email: You may email comments to david_dell@fws.gov. Please include your name and email address in your email message. If you do not receive an email confirmation from us that we have received your email message, contact us directly at either telephone number in FOR FURTHER INFORMATION CONTACT.

FOR FURTHER INFORMATION CONTACT: Mr. David Dell, Regional HCP Coordinator, at the Atlanta Regional Office (see ADDRESSES) or Mr. William Lynn, Project Manager, at the Alabama Ecological Services Office (see ADDRESSES) or by telephone at 251-441-5868. If you use a telecommunications device for the deaf (TDD), please call the Federal Relay Service at 800-877-8339.

SUPPLEMENTARY INFORMATION: We, the U.S. Fish and Wildlife Service (Service), announce receipt of an application from Creek Holdings, LLC (applicant), for an incidental take permit (ITP) under the Endangered Species Act of 1973, as amended (ESA; 16 U.S.C. 1531 et seq.). The applicant requests the ITP to take the federally listed Alabama beach mouse (Peromyscus polionotus ammobates) incidental to the construction of seven single family homes and amenities development (project) in Baldwin County, Alabama. We request public comment on the application, which includes the applicant's proposed habitat conservation plan (HCP) and the Service's preliminary determination that this HCP qualifies as “low effect,” categorically excluded, under the National Environmental Policy Act (NEPA; 42 U.S.C. 4231 et seq.). To make this determination, we used our environmental action statement and low-effect screening form, both of which also are available for public review.

Project

The applicant requests a 50-year ITP to take Alabama beach mice incidental to the conversion of approximately 0.63 acres of occupied Alabama beach mouse habitat for the construction of seven single family homes with amenities on a 2.83-acre parcel in Baldwin County, Alabama. The applicant proposes to implement standard minimization and mitigation measures to mitigate for take of the species. The standard mitigation and minimization measures include reducing the construction footprint on each of the seven lots by 0.10 acres or less and shifting the development south to increase habitat continuity for the species. The applicant will also install fully shielded exterior lighting and tinted windows within the development, landscape with native vegetation, construct driveways with materials that will not disperse in a storm surge, and implement refuse control measures during construction as well as require that future residents utilize such measures and restore species' habitat after tropical storms. The use of exterior rodenticide and ownership of free-roaming cats will be prohibited within the development. Monitoring of the onsite Alabama beach mouse population will occur via fall and spring trapping surveys conducted twice a year for 50 years. The Service would require the applicant to ensure the availability of funding for this HCP is available prior to engaging in activities associated with the project on the parcel.

Public Availability of Comments

Before including your address, phone number, email address, or other personal identifying information in your comment, be aware that your entire comment—including your personal identifying information—may be made available to the public. While you may request that we withhold your personal identifying information, we cannot guarantee that we will be able to do so.

Our Preliminary Determination

The Service has made a preliminary determination that the applicant's project, including land clearing, infrastructure building, landscaping, and the proposed minimization and mitigation measures, would individually and cumulatively have a minor or negligible effect on the Alabama beach mouse and the environment. Therefore, we have preliminarily concluded that the ITP for this project would qualify for categorical exclusion and the HCP is low effect under our NEPA regulations at 43 CFR 46.205 and 46.210. A low-effect HCP is one that would result in (1) minor or negligible effects on federally listed, proposed, and candidate species and their habitats; (2) minor or negligible effects on other environmental values or resources; and (3) impacts that, when considered together with the impacts of other past, present, and reasonably foreseeable similarly situated projects, would not over time result in significant cumulative effects to environmental values or resources.

Next Steps

The Service will evaluate the application and the comments received to determine whether to issue the requested permit. We will also conduct an intra-Service consultation pursuant to section 7 of the ESA to evaluate the effects of the proposed take. After considering the above findings, we will determine whether the permit issuance criteria of section 10(a)(l)(B) of the ESA have been met. If met, the Service will issue ITP number TE33502D-0 to Creek Holdings, LLC.

Authority

The Service provides this notice under section 10(c) (16 U.S.C. 1539(c)) of the ESA and NEPA regulation 40 CFR 1506.6.

William J. Pearson,
Field Supervisor, Alabama Field Office, Southeast Region.

[FR Doc. 2019-20729 Filed 9-24-19; 8:45 am]

BILLING CODE 4333-15-P